DEPARTMENT OF JUSTICE

Antitrust Division

Notice Pursuant to the National Cooperative Research and Production Act of 1993—National Armaments Consortium

Notice is hereby given that, on January 12, 2021, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Acutronic USA Inc., Pittsburgh, PA; Applied Nanotech Inc., Austin, TX; Arquimea USA, Inc., Torrance, CA; Belcan Engineering Group, LLC, Cincinnati, OH; Capstone Research Corporation, Madison, AL; Cohere Solutions, LLC, Reston, VA; Del Sigma Technologies LLC, Rockford, MI; Epirus Inc., Hawthorne, CA; HII Technical Solutions Corporation, Virginia Beach, VA; Hydraulics International, Inc., Chatsworth, CA; Iowa State University of Science and Technology, Ames, IA; KMS Solutions, LLC, Alexandria, VA; Kowalski Heat Treating, Cleveland, OH; L3Harris Technologies Power Paragon, Inc., Anaheim, CA; Onodi Tool & Engineering, Melvindale, MI; Phased n Research, Inc., Huntsville, AL; Prasad, Sarita dba IMS-Pro LLC (Innovative Microwave System Prototypes), Albuquerque, NM; ProSync Technology Group, Inc., Ellicott City, MD; Reheat, LLC, Marquette, MI; Rocal Corp. dba Rebling Plastics, Warrington, PA; Starwin Industries LLC, Dayton, OH; Synthetik Applied Technologies, LLC, Pierre, SD; Telesis a Belcan Company, McLean, VA; Testek Solutions, Wixom, MI; Trusted Science and Technology, Inc., Bethesda, MD; Universal Technology Professional, LLC, Laurel, MD; University of South Carolina, Columbia, SC; Venturi, LLC, Huntsville, AL; VetAble Technologies, LLC, Brandon, FL; Veth Research Associates, LLC, Niceville, FL have been added as parties to this venture.

Also, AAI Corporation Inc., Hunt Valley, MD; Anthem Engineering, LLC, Elkridge, MD; Black River Systems Company, Utica, NY; Continuum Dynamics, Inc., Ewing, NJ; Cummings Aerospace, Inc., Huntsville, AL; Keystone Automation, Duryea, PA; Lancer Systems, LP, Quakertown, PA; ODAT Machine Inc., Gorham, ME; Optimax Systems, Inc., Ontario, NY; Remington Arms Company, LLC, Madison, NC; SemQuest Incorporated, Colorado Springs, CO; Syntek Technologies, Inc., Fairfax, VA; The University of Southern Mississippi, Hattiesburg, MS; Trijicon Inc., Wixom, MI have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on October 9, 2020. A notice was published in the Federal Register pursuant to Section 6(b) of the Act on October 30, 2020 (85 FR 68916).

Suzanne Morris,
Chief, Premerger and Division Statistics, Antitrust Division.

[FR Doc. 2021-01071 Filed 1-15-21; 8:45 am]

BILLING CODE P